INTERNATIONAL TRADE COMMISSION

[Investigation Nos. 731-TA-1422-1423 (Final)]

Strontium Chromate From Austria and France; Determinations

On the basis of the record ¹ developed in the subject investigations, the United States International Trade Commission (“Commission”) determines, pursuant to the Tariff Act of 1930 (“the Act”), that an industry in the United States is materially injured by reason of imports of strontium chromate from Austria and France, provided for in subheadings 2841.50.91 and 3212.90.00 of the Harmonized Tariff Schedule of the United States, that have been found by the U.S. Department of Commerce (“Commerce”) to be sold in the United States at less than fair value (“LTFV”).²

¹ The record is defined in sec. 207.2(f) of the Commission's Rules of Practice and Procedure (19 CFR 207.2(f)).

² 84 FR 53676 and 84 FR 53678 (October 8, 2019).

Background

The Commission, pursuant to section 735(b) of the Act (19 U.S.C. 1673d(b)), instituted these investigations effective September 5, 2018, following receipt of a petition filed with the Commission and Commerce by WPC Technologies, Oak Creek, Wisconsin. The Commission scheduled the final phase of the investigations following notification of preliminary determinations by Commerce that imports of strontium chromate from Austria and France were being sold at LTFV within the meaning of section 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register of June 17, 2019 (84 FR 28069). The hearing was held in Washington, DC on October 3, 2019, and all persons who requested the opportunity were permitted to appear in person or by counsel.

³ 84 FR 22438 and 84 FR 22443 (May 17, 2019).

The Commission made these determinations pursuant to section 735(b) of the Act (19 U.S.C. 1673d(b)). It completed and filed its determinations in these investigations on November 21, 2019. The views of the Commission are contained in USITC Publication 4992 (November 2019), entitled Strontium Chromate from Austria and France: Investigation Nos. 731-TA-1422-1423 (Final).

By order of the Commission.
Issued: November 21, 2019.
Lisa Barton,
Secretary to the Commission.

[FR Doc. 2019-25666 Filed 11-25-19; 8:45 am]

BILLING CODE 7020-02-P